ENVIRONMENTAL PROTECTION AGENCY

[FRL-8457-7]

Meeting of the Total Coliform Rule Distribution System Advisory Committee—Notice of Public Meeting

AGENCY: Environmental Protection Agency (EPA).

ACTION: Notice.

SUMMARY: Under Section 10(a)(2) of the Federal Advisory Committee Act, the United States Environmental Protection Agency (EPA) is giving notice of a meeting of the Total Coliform Rule Distribution System Advisory Committee (TCRDSAC). The purpose of this meeting is to discuss the purpose, efficacy, applicability, and implementation of the Total Coliform Rule (TCR), a range of information that can be used to characterize and potentially revise the Rule, what distribution system issues affect water quality, and criteria for prioritizing distribution system issues.

The TCRDSAC advises and makes recommendations to the Agency on revisions to the Total Coliform Rule (TCR), and on what information about distribution systems is needed to better understand the public health impact from the degradation of drinking water quality in distribution systems. The Committee's activities include efforts to utilize available information for revisions to the TCR and to determine what further information is needed to characterize and address potential public health risks in the distribution systems.

Topics to be discussed in the meeting include: The framework for the existing TCR, which may include rule objectives, indicators used, and other related topics; summary of TCR issues; how utilities and States implement the TCR; a preview of information to be discussed in future Advisory Committee meetings; and distribution system elements that impact water quality and criteria for prioritization.

DATES: The public meeting will be held on Tuesday, September 18, 2007 (8:30 a.m. to 6 p.m., Eastern Daylight Time (EDT)) and Wednesday, September 19, 2007 (8 a.m. to 3 p.m. EDT). Attendees should register for the meeting by calling Jason Peller at (202) 965-6387 or by e-mail to jpeller@resolv.org no later than September 14, 2007.

ADDRESSES: The meeting will be held at RESOLVE, 1255 Twenty-Third St., NW., Suite 275, Washington, DC 20037.

FOR FURTHER INFORMATION CONTACT: For general information, contact Jason Peller of RESOLVE at (202) 965-6387. For technical inquiries, contact Tom Grubbs (grubbs.thomas@epa.gov, (202) 564-5262) or Ken Rotert (rotert.kenneth@epa.gov, (202) 564-5280), Standards and Risk Management Division, Office of Ground Water and Drinking Water (MC 4607M), Environmental Protection Agency, 1200 Pennsylvania Ave., NW., Washington, DC 20460; fax number: (202) 564-3767.

SUPPLEMENTARY INFORMATION: The meeting is open to the public. The Committee encourages the public's input and will take public comment at 5:15 p.m. on September 18, 2007, for this purpose. It is preferred that only one person present the statement on behalf of a group or organization. To ensure adequate time for public involvement, individuals interested in presenting an oral statement may notify Jini Mohanty by telephone at 202-564-5269 no later than September 14, 2007. Any person who wishes to file a written statement can do so before or after a Committee meeting. Written statements received by September 14, 2007 will be distributed to all members before any final discussion or vote is completed. Any statements received September 17, 2007 or after the meeting will become part of the permanent meeting file and will be forwarded to the members for their information.

Special Accommodations

For information on access or services for individuals with disabilities, please contact Jini Mohanty at 202-564-5269 or by e-mail at mohanty.jini@epa.gov. To request accommodation of a disability, please contact Jini Mohanty, preferably at least 10 days prior to the meeting to give EPA as much time to process your request.

Dated: August 13, 2007.
Nanci Gelb,
Acting Director, Office of Ground Water and Drinking Water.

[FR Doc. E7-16451 Filed 8-20-07; 8:45 am]

BILLING CODE 6560-50-P